DEPARTMENT OF ENERGY

Federal Energy Regulatory Commission

Combined Notice of Filings #1

Take notice that the Commission received the following electric corporate filings:

Docket Numbers: EC18-57-000.

Applicants: FPL Energy New Mexico Wind, LLC, New Mexico Wind, LLC.

Description: Application for Authorization Under Section 203 of the Federal Power Act and Request for Expedited Action of FPL Energy New Mexico Wind, LLC, et al.

Filed Date: 2/20/18.

Accession Number: 20180220-5294.

Comments Due: 5 p.m. ET 3/13/18.

Docket Numbers: EC18-58-000.

Applicants: Desert Stateline LLC, SG2 Imperial Valley LLC, North Star Solar, LLC, Lost Hills Solar, LLC, Blackwell Solar, LLC, Kingbird Solar A, LLC, Kingbird Solar B, LLC, Solar Star California XIII, LLC, Parrey, LLC, Solar Star Colorado III, LLC.

Description: Application for Authorization Under Section 203 of the Federal Power Act and Request for Expedited Action of Desert Stateline LLC, et. al.

Filed Date: 2/20/18.

Accession Number: 20180220-5326.

Comments Due: 5 p.m. ET 3/13/18.

Take notice that the Commission received the following electric rate filings:

Docket Numbers: ER10-2895-017; ER10-2917-017; ER10-2918-018; ER10-2920-017; ER10-2921-017; ER10-2922-017; ER10-2966-017; ER10-3167-009; ER11-2292-018; ER11-2293-018; ER11-2294-016; ER11-2383-012; ER11-3941-015; ER11-3942-017; ER12-2447-016; ER13-1613-010; ER13-203-009; ER13-2143-010; ER14-1964-008; ER16-287-003; ER17-482-002.

Applicants: Bear Swamp Power Company LLC, BIF II Safe Harbor Holdings LLC, BIF III Holtwood LLC, Black Bear Development Holdings, LLC, Black Bear Hydro Partners, LLC, Black Bear SO, LLC, BREG Aggregator LLC, Brookfield Energy Marketing Inc., Brookfield Energy Marketing LP, Brookfield Energy Marketing US LLC, Brookfield Power Piney & Deep Creek LLC, Brookfield Renewable Energy Marketing US LLC, Brookfield Smoky Mountain Hydropower LLC, Brookfield White Pine Hydro LLC, Carr Street Generating Station, L.P., Erie Boulevard Hydropower, L.P., Granite Reliable Power, LLC, Great Lakes Hydro America, LLC, Hawks Nest Hydro LLC, Rumford Falls Hydro LLC, Safe Harbor Water Power Corporation.

Description: Supplement to June 30, 2017 Updated Market Power Analysis for the Northeast Region of the Brookfield Companies.

Filed Date: 2/20/18.

Accession Number: 20180220-5313.

Comments Due: 5 p.m. ET 3/13/18.

Docket Numbers: ER11-3417-013; ER10-2460-014; ER10-2461-015; ER10-2463-014; ER10-2466-015; ER10-2895-018; ER10-2917-018; ER10-2918-019; ER10-2920-018; ER10-2921-018; ER10-2922-018; ER10-2966-018; ER10-3167-010; ER10-3178-010; ER11-2201-018; ER11-2292-019; ER11-2293-019; ER11-2294-017; ER11-2383-013; ER11-3941-016; ER11-3942-018; ER11-4029-014; ER12-1311-014; ER12-161-018; ER12-2068-014; ER12-2447-017; ER12-645-019; ER12-682-015; ER13-1139-017; ER13-1346-009; ER13-1613-011; ER13-17-012; ER13-203-010; ER13-2143-011; ER14-1964-009; ER14-25-014; ER14-2630-010; ER16-287-004; ER17-482-003.

Applicants: Alta Wind VIII, LLC, Bear Swamp Power Company LLC, BIF II Safe Harbor Holdings LLC, BIF III Holtwood LLC, Black Bear Development Holdings, LLC, Black Bear Hydro Partners, LLC, Black Bear SO, LLC, BREG Aggregator LLC, Brookfield Energy Marketing Inc., Brookfield Energy Marketing LP, Brookfield Energy Marketing US LLC, Brookfield Power Piney & Deep Creek LLC, Brookfield Renewable Energy Marketing US, LLC, Brookfield Smoky Mountain Hydropower LLC, Brookfield White Pine Hydro LLC, Carr Street Generating Station, L.P., Erie Boulevard Hydropower, L.P., Granite Reliable Power, LLC, Great Lakes Hydro America, LLC, Hawks Nest Hydro LLC, Mesa Wind Power Corporation, Rumford Falls Hydro LLC, Safe Harbor Water Power Corporation, Windstar Energy, LLC, Bishop Hill Energy LLC, Blue Sky East, LLC, California Ridge Wind Energy LLC, Canandaigua Power Partners, LLC, Canandaigua Power Partners II, LLC, Erie Wind, LLC, Evergreen Wind Power, LLC, Evergreen Wind Power III, LLC, Imperial Valley Solar 1, LLC, Niagara Wind Power, LLC, Prairie Breeze Wind Energy LLC, Regulus Solar, LLC, Stetson Holdings, LLC, Stetson Wind II, LLC, Vermont Wind, LLC.

Description: Supplement to November 15, 2017 Notice of Change in Status of the Brookfield Companies and TerraForm Companies.

Filed Date: 2/20/18.

Accession Number: 20180220-5307.

Comments Due: 5 p.m. ET 3/13/18.

Docket Numbers: ER17-603-001.

Applicants: Bear Swamp Power Company LLC.

Description: Compliance Filing of Updated Market Power Analysis of Bear Swamp Power Company LLC.

Filed Date: 2/20/18.

Accession Number: 20180220-5312.

Comments Due: 5 p.m. ET 3/13/18.

Docket Numbers: ER18-770-001.

Applicants: Southwest Power Pool, Inc.

Description: Tariff Amendment: 3334R1 Substitute Associated Electric Cooperative NITSA NOA to be effective 1/1/2018.

Filed Date: 2/21/18.

Accession Number: 20180221-5023.

Comments Due: 5 p.m. ET 3/14/18.

Docket Numbers: ER18-886-000.

Applicants: PJM Interconnection, L.L.C.

Description: § 205(d) Rate Filing: Original ISA, Service Agreement No. 4912; Queue No. NQ148 to be effective 1/19/2018.

Filed Date: 2/20/18.

Accession Number: 20180220-5283.

Comments Due: 5 p.m. ET 3/13/18.

Docket Numbers: ER18-887-000.

Applicants: Entergy Services, Inc.

Description: § 205(d) Rate Filing: Entergy Services, Inc. to be effective 1/1/2018.

Filed Date: 2/21/18.

Accession Number: 20180221-5000.

Comments Due: 5 p.m. ET 3/14/18.

Docket Numbers: ER18-888-000.

Applicants: CF Industries Nitrogen, LLC.

Description: Baseline eTariff Filing: CF Industries Nitrogen, LLC Rate Schedule No. 1 Filing to be effective 4/22/2018.

Filed Date: 2/21/18.

Accession Number: 20180221-5026.

Comments Due: 5 p.m. ET 3/14/18.

Docket Numbers: ER18-889-000.

Applicants: Entergy Louisiana, LLC.

Description: § 205(d) Rate Filing: ELL-CF Generator Interconnection Agreement to be effective 4/22/2018.

Filed Date: 2/21/18.

Accession Number: 20180221-5042.

Comments Due: 5 p.m. ET 3/14/18.

Docket Numbers: ER18-890-000.

Applicants: PacifiCorp.

Description: § 205(d) Rate Filing: PGE Construction Agmt—Troutdale—James River to be effective 4/23/2018.

Filed Date: 2/21/18.

Accession Number: 20180221-5048.

Comments Due: 5 p.m. ET 3/14/18.

Docket Numbers: ER18-891-000.

Applicants: PSEG Energy Resources & Trade LLC.

Description: Tariff Cancellation: Sewaren 1—4 Cancellation to be effective 6/1/2018.

Filed Date: 2/21/18.

Accession Number: 20180221-5084.

Comments Due: 5 p.m. ET 3/14/18.

Take notice that the Commission received the following PURPA 210(m)(3) filings:

Docket Numbers: QM18-10-000.

Applicants: Cooperative Energy.

Description: Application of Cooperative Energy to Terminate Mandatory Purchase Obligation from Qualifying Facilities with a Net Capacity Greater than 20 MW on a Service Territory-Wide Basis.

Filed Date: 2/21/18.

Accession Number: 20180221-5098.

Comments Due: 5 p.m. ET 3/21/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 21, 2018.
Nathaniel J. Davis, Sr.,
Deputy Secretary.

[FR Doc. 2018-03971 Filed 2-26-18; 8:45 am]

BILLING CODE 6717-01-P